FEDERAL COMMUNICATIONS COMMISSION

47 CFR Part 73

[DA No. 00-921; MM Docket No. 99-338; RM-9746]

Radio Broadcasting Services; Shiner, TX

AGENCY: Federal Communications Commission.

ACTION: Proposed rule making; withdrawal.

SUMMARY: This document dismisses a petition for rule making filed by Elgin FM Limited Partnership requesting the allotment of Channel 232C3 at Shiner, Texas. See 64 FR 68662, December 8, 1999. Elgin FM Limited Partnership withdrew its interest in the allotment of Channel 232C3 at Shiner, Texas. With this action, this proceeding is terminated.

FOR FURTHER INFORMATION CONTACT: Kathleen Scheuerle, Mass Media Bureau, (202) 418-2180.

SUPPLEMENTARY INFORMATION: This is a summary of the Commission's Report and Order, MM Docket No. 99-338, adopted April 19, 2000, and released April 25, 2000. The full text of this Commission decision is available for inspection and copying during normal business hours in the Commission's Reference Center, 445 Twelfth Street, SW., Washington, DC. The complete text of this decision may also be purchased from the Commission's copy contractors, International Transcription Services, Inc., 1231 20th Street, NW., Washington, DC 20036, (202) 857-3800, facsimile (202) 857-3805.

Federal Communications Commission.
John A. Karousos,
Chief, Allocations Branch, Policy and Rules Division, Mass Media Bureau.

[FR Doc. 00-12257 Filed 5-15-00; 8:45 am]

BILLING CODE 6712-01-U